ENVIRONMENTAL PROTECTION AGENCY

[ER-FRL-8995-8]

Environmental Impact Statements; Notice of Availability

Responsible Agency: Office of Federal Activities, General Information (202) 564-1399 or http://www.epa.gov/compliance/nepa/

Weekly receipt of Environmental Impact Statements

Filed 02/28/2011 Through 03/04/2011

Pursuant to 40 CFR 1506.9

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110067, Draft Supplement, USFS, NV, Martin Basin Rangeland Project, Updated Information on the Analysis on the Effects of Livestock Grazing on the Wilderness, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Comment Period Ends: 04/25/2011, Contact: Vern Keller 775-355-5356

EIS No. 20110068, Final EIS, USFS, AK, Central Kupreanof Timber Harvest Project, Proposes to Harvest up to 70.2 Million Board Feet of Timber, Kupreanof Island, Petersburg Ranger District, Tongass National Forest, AK, Review Period Ends: 04/11/2011, Contact: Carey Case 907-772-3871

EIS No. 20110069, Draft EIS, USFS, MT, Montana Snowbowl Expansion Project, Proposed Expansion is to Increase Outdoor Recreation Opportunities, Missoula Ranger District, Lolo National Forest, Missoula County, MT, Comment Period Ends: 04/25/2011, Contact: Tami Paulsen 406-329-3731

EIS No. 20110070, Final EIS, TVA, KY, Tennessee Valley Authority (TVA) Integrated Resource Plan (IRP), To Address the Demand for Power in the TVA Service Area, KY, Review Period Ends: 04/11/2011, Contact: Charles P. Nicholson 865-632-3582

EIS No. 20110071, Final EIS, BLM, ID, Blackfoot Bridge Mine Project, Developing Three Mine Pits, Haul Roads, Water Management Structures, and Overburden Disposal Areas, Implementation, Caribou County, ID, Review Period Ends: 04/11/2011, Contact: Kyle Free 208-478-6368

EIS No. 20110072, Draft Supplement, STB, PA, R.J. Corman Railroad/Pennsylvania Lines Project, Additional Information, Construction, Operation, and Reactivation to Approximately 20 Miles of Railline in Clearfield and Centre Counties, PA, Comment Period Ends: 04/25/2011, Contact: Danielle Gosselin 202-245-0300

EIS No. 20110073, Final EIS, FHWA, CO, PROGRAMMATIC—I-70 Mountain Corridor Tier 1 Project, from Glenwood Springs and C-470 Proposes to Increase Capacity, Improve Accessibility and Mobility, and Decrease Congestion, Colorado, Garfield, Eagle, Summit, Clear Creek and Jefferson Counties, CO, Review Period Ends: 04/11/2011, Contact: Monica Pavlik 720-963-3012

EIS No. 20110074, Final EIS, USN, AK, Gulf of Alaska Navy Training Activities, Proposal to Support and Conduct Current, Emerging, and Future Training Activities, Implementation, Gulf of Alaska, AK, Review Period Ends: 04/11/2011, Contact: Amy Butt 360-396-0924

EIS No. 20110075, Final EIS, NOAA, 00, Harvest Specifications and Management Measures for the 2011-2012 Pacific Coast Groundfish Fishery and Amendment 16-5 to the Pacific Coast Groundfish Fishery Management Plan, and Adopt a Rebuilding Plan for Petrale Sole, RIN-0648-BA01, WA, OR and CA, Review Period Ends: 04/11/2011, Contact: William W. Stelle, Jr. 206-526-6150

Amended Notices

EIS No. 20100480, Draft Supplement, USFS, VT, Deerfield Wind Project, Updated Information, Application for a Land Use Authorization to Construct and Operate a Wind Energy Facility, Special Use Authorization Permit, Towns of Searsburg and Readsboro, Manchester Ranger District, Green Mountain National Forest, Bennington County, VT, Comment Period Ends: 03/18/2011, Contact: Bob Bayer 802-362-2307 Ext. 218 Revision to FR Notice Published 12/23/2010: Extending Comment Period from 03/04/2011 to 03/18/2011

Dated: March 8, 2011.
Robert W. Hargrove,
Director, NEPA Compliance Division, Office of Federal Activities.

[FR Doc. 2011-5618 Filed 3-10-11; 8:45 am]

BILLING CODE 6560-50-P